DEPARTMENT OF TRANSPORTATION

Federal Highway Administration

Tier II Environmental Impact Statement: San Diego County, CA

AGENCY: Federal Highway Administration (FHWA), DOT.

ACTION: Notice of Intent.

SUMMARY: The FHWA, on behalf of the California Department of Transportation (Caltrans) and the General Services Administration (GSA) is issuing this notice to advise the public that an Environmental Impact Statement (EIS) will be prepared for Tier II of a proposed highway project, international port of entry (POE), and possible Commercial Vehicle Enforcement Facility (CVEF) in the East Otay Mesa area of San Diego County, California.

FOR FURTHER INFORMATION CONTACT: Cesar Perez, Senior Transportation Engineer, Federal Highway Administration, 650 Capitol Mall, Suite 4-100, Sacramento, CA 95814, Telephone: (916) 498-5065, or Susanne Glasgow, Deputy District Director, Environmental Division, California Department of Transportation, District 11, 4050 Taylor Street, MS-242, San Diego, CA 92110, Telephone: (619) 688-0100.

SUPPLEMENTARY INFORMATION: The FHWA, in cooperation with the California Department of Transportation (Caltrans), has previously completed a Phase I EIS (Record of Decision dated October 3, 2008) that resulted in the selection of a preferred corridor for State Route 11 (SR-11) and a preferred location for the Otay Mesa POE. Issuance by the U.S. Department of State (DOS) of a conditional Presidential Permit is also an anticipated outcome of this prior environmental process.

At this time, the FHWA, the GSA, and Caltrans will prepare a Tier II EIS that will evaluate design and operational alternatives for future SR-11, the POE, and a potential CVEF, in the previously selected locations in the Otay Mesa area of San Diego County in southern California. This will provide the required environmental documentation for a full Presidential Permit for the POE and allow FHWA/Caltrans and GSA to proceed with acquisition of right-of-way and construction of SR-11 and the Otay Mesa East POE, respectively.

Future SR-11 would begin at approximately the SR-905/SR-125 interchange and proceed easterly approximately 2.1 miles to a new, approximately 100-acre POE. The project will also either determine a route to the existing CVEF that serves the existing Otay Mesa POE to the west or will provide a second CVEF (approximately 20 acres) dedicated to the proposed Otay Mesa East POE. Within the limits of and adjacent to the study area, there are biological resources, planned land uses, paleontological resources, cross-border concerns, and potential traffic management, air quality, and growth issues.

Preliminary Alternatives/Design Variations under consideration include: (1) Taking no action; (2) the option to achieve the project's purpose and need through accommodation of pedestrians, cyclists, transit, and other transportation systems/demand management measures alone, without implementation of SR-11 and the new POE; (3) SR-11 toll implementation options; (4) the options of building two interchanges between SR-11 and local roadways, or one interchange only, with the exact locations of the interchanges to be determined after consideration of public input; and (5) the options of utilizing the existing CVEF at the existing Otay Mesa POE to also serve the proposed Otay Mesa East POE versus construction of a new CVEF adjacent to the new POE. For all alternatives/design variations, transportation systems/demand management measures and options to reduce vehicle idling time, and associated air pollutant emissions at the POE will be analyzed.

Letters describing the proposed action and soliciting comments will be sent to appropriate Federal, State, and Local agencies; Native American organizations; private organizations; and citizens who have previously expressed or are known to have interest in this proposal.

During future project development, prior to draft EIS circulation, a public scoping meeting will be held on December 4, 2008, from 5 p.m. to 7:30 p.m. at Ocean View Hills Elementary School, located at 4919 Del Sol Boulevard, San Diego, California. In addition, a public hearing will be held after publication of the draft EIS. Public notices will be given regarding the time and place of the meeting and hearing.

To ensure that the full range of issues relating to this proposed action is addressed and all significant issues identified, comments and suggestions are invited from all interested parties. Comments or questions concerning this proposed action and the Draft EIS/EIR should be directed to FHWA and/or Caltrans at the addresses provided above.

Issued on: October 30, 2008.
Nancy Bobb,
Director, State Programs, Federal Highway Administration, Sacramento, California.

[FR Doc. E8-26365 Filed 11-4-08; 8:45 am]

BILLING CODE 4910-22-P